INTERNATIONAL TRADE COMMISSION

[Inv. No. 337-TA-431]

Certain Synchronous Dynamic Random Access Memory Devices, Microprocessors, and Products Containing Same; Notice of Commission Decision Not To Review an Initial Determination Terminating the Investigation

AGENCY: U.S. International Trade Commission.

ACTION: Notice.

SUMMARY: Notice is hereby given that the U.S. International Trade Commission has determined not to review the presiding administrative law judge's (“ALJ's”) initial determination (“ID”) terminating the investigation in its entirety by granting (1) the joint motion of complainant Rambus Inc. and respondents Hitachi, Ltd. and Hitachi Semiconductor (America), Inc. to terminate the investigation based on a settlement agreement, and by granting (2) complainant's motion to withdraw its complaint and terminate the investigation as to the remaining respondents.

FOR FURTHER INFORMATION CONTACT: Clara Kuehn, Office of the General Counsel, U.S. International Trade Commission, 500 E Street, SW, Washington, DC 20436, telephone (202) 205-3012. Hearing-impaired persons are advised that information on this matter can be obtained by contacting the Commission's TDD terminal on 202-205-1810. General information concerning the Commission may also be obtained by accessing its Internet server (http://www.usitc.gov).

SUPPLEMENTARY INFORMATION: The Commission ordered the institution of this investigation on April 18, 2000, based on a complaint filed by Rambus Inc. of Mountain View, California. The notice of investigation was published in the Federal Register on April 24, 2000. 65 Fed. Reg. 21790 (2000). The complaint named four respondents: Hitachi, Ltd. of Tokyo, Japan; Hitachi Semiconductor (America), Inc., of San Jose, California (collectively, “Hitachi”); Sega Enterprises, Ltd., of Tokyo, Japan; and Sega of America, Inc., of San Francisco, California (collectively, “Sega”).

On June 29, 2000, complainant Rambus and the Hitachi respondents filed a joint motion to terminate the investigation by settlement. Also on June 29, 2000, complainant Rambus filed a motion to withdraw the complaint and terminate the investigation as to the Sega respondents. On July 10, 2000, the Commission investigation attorney filed responses in support of each motion. The Sega respondents filed no response to either motion. On July 12, 2000, the presiding ALJ issued an ID (Order No. 11) granting both motions. No party petitioned for review of the ID.

The authority for the Commission's determination is contained in section 337 of the Tariff Act of 1930, as amended (19 U.S.C. 1337), and in section 210.42 of the Commission's Rules of Practice and Procedure (19 C.F.R. 210.42). Copies of the ALJ's ID and all other nonconfidential documents filed in connection with this investigation are or will be available for inspection during official business hours (8:45 a.m. to 5:15 p.m.) in the Office of the Secretary, U.S. International Trade Commission, 500 E Street, SW, Washington, DC 20436, telephone 202-205-2000.

Issued: August 7, 2000.
By order of the Commission.
Donna R. Koehnke,
Secretary.

[FR Doc. 00-20528 Filed 8-11-00; 8:45 am]

BILLING CODE 7020-02-U